DEPARTMENT OF HEALTH AND HUMAN SERVICES

Centers for Disease Control and Prevention

[60 Day-07-07BS]

Proposed Data Collections Submitted for Public Comment and Recommendations; Notice

This 60 Day Federal Register Notice published on September 27, 2007 (72 FR 54915-54916) has been inadvertently republished. This is a duplicate document of the previous FRN that was published on October 27, 2006. Therefore, we would like to retract it.

Maryam I. Daneshvar,
Acting Reports Clearance Officer, Centers for Disease Control and Prevention.

[FR Doc. E7-21864 Filed 11-6-07; 8:45 am]

BILLING CODE 4163-18-P